DEPARTMENT OF TRANSPORTATION

Surface Transportation Board

[STB Finance Docket No. 34241]

Central Michigan Railway Company—Trackage Rights Exemption—CSX Transportation, Inc.

CSX Transportation, Inc. (CSXT) has agreed to grant limited bridge trackage rights to Central Michigan Railway Company (CMGN) over approximately 4.0 miles in Saginaw, MI.¹ The trackage rights extend approximately from the clearance point at the intersection of the CMGN/CSXT connection track of the Grand Rapids Wye Track, through CSXT's Saginaw main, yard, and connection trackage to CSXT's ownership point at the connection with Huron and Eastern Railway Company (HESR) at Saginaw (milepost CBB 2.0) on CSXT's Bad Axe Subdivision.

¹ An unredacted version of the trackage rights agreement, dated June 26, 2001, was concurrently filed under seal along with a motion for a protective order. That motion was granted and a protective order was issued in a decision served on August 22, 2002.

The purpose of the trackage rights is to enable CMGN to interchange certain traffic with HESR at approximately Buena Vista Station, about 1 mile east of CSXT's Saginaw yard, thereby promoting operating efficiencies.²

² Pursuant to 49 CFR 1180.4(g), a railroad must file a verified notice with the Board at least 7 days before the trackage rights are to be consummated. In its verified notice, CMGN indicates that the transaction was consummated in October 2001. CMGN states that it failed to file its exemption with the Board prior to exercising the trackage rights and now seeks to obtain the requisite authority for the subject transaction.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings referring to STB Finance Docket No. 34241, must be filed with the Surface Transportation Board, 1925 K Street, NW., Washington, DC, 20423-0001. In addition, a copy of each pleading must be served on Rose-Michele Weinryb, 1300 19th Street, NW., 5th Floor, Washington, DC, 20036.

Board decisions and notices are available on our Web site at http://www.stb.dot.gov.

Decided: August 20, 2002.
By the Board, David M. Konschnik, Director, Office of Proceedings.
Vernon A. Williams,
Secretary.

[FR Doc. 02-21766 Filed 8-28-02; 8:45 am]

BILLING CODE 4915-00-P